NATIONAL SCIENCE FOUNDATION

Promoting Economic Efficiency in Spectrum Use: WSRD SSG Workshop IV

AGENCY: The National Coordination Office (NCO) for Networking and Information Technology Research and Development (NITRD).

ACTION: Notice.

FOR FURTHER INFORMATION, CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

DATES: April 23-24, 2013.

SUMMARY: Representatives from Federal research agencies, private industry, and academia will identify economic and policy R&D that will promote progress toward more efficient spectrum utilization and sharing.

SUPPLEMENTARY INFORMATION: Overview: This notice is issued by the National Coordination Office for the Networking and Information Technology Research and Development (NITRD) Program. Agencies of the NITRD Program are holding the fourth in a series of workshops to bring together experts from private industry and academia to help identify economic and policy research that will accelerate the progress toward more efficient spectrum utilization and sharing. The workshop will take place on April 23-24, from 9:30 a.m. to 5:30 p.m. ET (both days), at the MIT Patil Conference Room/Kiva, 32 Vassar Street, Cambridge, MA 02139. This event will be webcast. The event agenda and information about the webcast will be available the week of the event at: http://www.nitrd.gov/Subcommittee/wirelessspectrumrd.aspx.

Background: The Presidential Memorandum on Unleashing the Wireless Broadband Revolution, released on June 28, 2010, directed the federal agencies to work together and with the non-federal community, including the academic, commercial, and public safety sectors, to create and implement a plan that “facilitates research, development, experimentation, and testing by researchers to explore innovative spectrum-sharing technologies.”

The WSRD has held three workshops that addressed the challenge defined in that Presidential Memorandum. During WSRD's first Workshop held at Boulder, CO, in July, 2011, the participants indicated that a national-level testing environment is critical for validating spectrum sharing technology under realistic conditions; they also emphasized the value of a spectrum sharing testing environment for a diversity of users. At a second workshop, held in Berkeley, CA, in January, 2012, key concepts and criteria were established for spectrum sharing test and evaluation capabilities. The third workshop, held in Boulder, CO. in July 2012, identified realistic projects whose implementation will significantly support the plan to meet the Presidential Memorandum's goals. This fourth workshop will gather diverse, knowledgeable, and forward thinking stakeholders to advise us on the important next step, the economic and policy research that is needed to promote an efficient and shared spectrum environment.

Submitted by the National Science Foundation for the National Coordination Office (NCO) for Networking and Information Technology Research and Development (NITRD) on March 20, 2013.

Suzanne H. Plimpton,
Reports Clearance Officer, National Science Foundation.

[FR Doc. 2013-06780 Filed 3-25-13; 8:45 am]

BILLING CODE 7555-01-P